DEPARTMENT OF EDUCATION

Federal Student Aid; Leveraging Educational Assistance Partnership, Special Leveraging Educational Assistance Partnership, and Grants for Access and Persistence Programs

Catalog of Federal Domestic Assistance (CFDA) Number: 84.069.

AGENCY: Federal Student Aid, Department of Education.

ACTION: Notice of the deadline dates for receipt of State applications for Award Year 2010-2011 funds.

SUMMARY: This notice provides the deadline dates for receipt of State applications for Award Year 2010-2011 funds under the Leveraging Educational Assistance Partnership (LEAP), Special Leveraging Educational Assistance Partnership (SLEAP), and Grants for Access and Persistence (GAP) programs.

The LEAP and SLEAP programs, authorized under title IV, part A, subpart 4 of the Higher Education Act of 1965, as amended (HEA), assist States in providing aid to students with substantial financial need to help them pay for their postsecondary education costs through matching formula grants to States. The GAP Program was authorized under section 415E of the HEA, which was amended as a result of the Higher Education Opportunity Act of 2008 (HEOA). The GAP Program assists States in establishing partnerships to provide eligible students with LEAP Grants under GAP to attend institutions of higher education and to encourage increased participation in early information and intervention, mentoring, or outreach programs. The GAP Program replaces the SLEAP Program. However, section 415E(j) of the HEA, as amended by the HEOA, provides that for the two-year period that began on August 14, 2008, the date of enactment of the HEOA, a State may continue to make grants under the SLEAP Program, i.e., through the 2010-2011 award year. The 2010-2011 award year is the last award year in which States will be able to apply for SLEAP funding. States that choose to apply for either SLEAP or GAP funding must first apply for LEAP funding and be deemed eligible and must subsequently participate in the LEAP Program in the 2010-2011 award year to receive funding under either SLEAP or GAP.

Under section 415C(a) of the HEA, a State must submit an application to participate in the LEAP, SLEAP, or GAP programs through the State agency that administered its LEAP Program as of July 1, 1985, unless the Governor of the State has subsequently designated, and the Department has approved, a different State agency to administer the LEAP Program.

DATES: To assure funding under the LEAP, SLEAP, or GAP programs for Award Year 2010-2011, a State must meet the applicable deadline date. Applications submitted electronically must be received by 11:59 p.m. (Eastern time) June 1, 2010. Paper applications must be received by May 25, 2010.

FOR FURTHER INFORMATION CONTACT: Mr. Greg Gerrans, LEAP Program Manager, Grants and Campus Based Programs Division, Business Operations, Federal Student Aid, U.S. Department of Education, 830 First Street, NE., room UCP-062E3, Washington, DC 20202-5453. Telephone: (312) 730-1506 or by e-mail: greg.gerrans@ed.gov.

If you use a telecommunications device for the deaf (TDD), call the Federal Relay Service (FRS), toll free, at 1-800-877-8339.

Individuals with disabilities can obtain this document in an accessible format (e.g., braille, large print, audiotape, or compact disk) on request to the program contact person listed under FOR FURTHER INFORMATION CONTACT.

SUPPLEMENTARY INFORMATION: Only the 50 States, the District of Columbia, the Commonwealth of Puerto Rico, Guam, the Commonwealth of the Northern Mariana Islands, American Samoa, and the U.S. Virgin Islands may submit an application for funding under the LEAP, SLEAP, and GAP programs.

State allotments for each award year are determined according to the statutorily mandated formula under section 415B of the HEA and are not negotiable. A State may also request its share of reallotment, in addition to its basic allotment, which is contingent upon the availability of such additional funds.

In Award Year 2009-2010, 48 States, the District of Columbia, Guam, and the U.S. Virgin Islands received funds under the LEAP Program. Additionally, 44 States, the District of Columbia, Guam, and the U.S. Virgin Islands received funds under the SLEAP Program.

Applications Submitted Electronically: States or territories may apply using the electronic form (Form 1288-E OMB 1845-0028) which can be obtained by contacting Mr. Greg Gerrans, LEAP Program Manager, at (312) 730-1506 or by e-mail: greg.gerrans@ed.gov. The form will be e-mailed to you. Applications submitted electronically must be e-mailed to greg.gerrans@ed.gov and received by 11:59 p.m. (Eastern time), June 1, 2010.

Paper Applications Delivered By Mail: States or territories may request a paper version of the application (Form 1288 OMB 1845-0028) by contacting Mr. Greg Gerrans, LEAP Program Manager, at (312) 730-1506 or by e-mail: greg.gerrans@ed.gov. The form will be mailed to you. A paper application sent by mail must be addressed to: Mr. Greg Gerrans, LEAP Program Manager, Grants and Campus Based Programs Division, Business Operations, Federal Student Aid, U.S. Department of Education, 830 First Street, NE., room UCP-062E3, Washington, DC 20202-5453.

The Department of Education encourages applicants that are completing a paper application to use certified or at least first-class mail when sending the application by mail to the Department. The Department must receive paper applications that are mailed no later than May 25, 2010.

Paper Applications Delivered By Hand: Paper applications that are hand-delivered must be delivered to Mr. Greg Gerrans, LEAP Program Manager, Grants and Campus Based Division, Business Operations, Federal Student Aid, U.S. Department of Education, 830 First Street, NE., room UCP-062E3, Washington, DC 20002. Hand-delivered applications will be accepted between 8:00 a.m. and 4:30 p.m. daily (Eastern time), except Saturdays, Sundays, and Federal holidays.

Paper applications that are hand-delivered must be received by 4:30 p.m. (Eastern time) on May 25, 2010.

Applicable Regulations: The following regulations are applicable to the LEAP, SLEAP, and GAP programs:

(1) The LEAP, SLEAP, and GAP Program regulations in 34 CFR part 692.

(2) The Student Assistance General Provisions in 34 CFR part 668.

(3) The Regulations Governing Institutional Eligibility in 34 CFR part 600.

(4) The Education Department General Administrative Regulations (EDGAR) in 34 CFR 75.60 through 75.62 (Ineligibility of Certain Individuals to Receive Assistance), part 76 (State-Administered Programs), part 77 (Definitions that Apply to Department Regulations), part 79 (Intergovernmental Review of Department of Education Programs and Activities), part 80 (Uniform Administrative Requirements for Grants and Cooperative Agreements to State and Local Governments), part 82 (New Restrictions on Lobbying), part 84 (Governmentwide Requirements for Drug-Free Workplace (Financial Assistance)), part 85 (Governmentwide Debarment and Suspension (Nonprocurement)), part 86 (Drug and Alcohol Abuse Prevention), and part 99 (Family Educational Rights and Privacy).

Electronic Access to This Document

You can view this document, as well as all other documents of this Department published in the Federal Register, in text or Adobe Portable Document Format (PDF) on the Internet at the following site: www.ed.gov/news/fedregister.

To use PDF you must have Adobe Acrobat Reader, which is available free at this site.

Note: The official version of this document is the document published in the Federal Register. Free Internet access to the official edition of the Federal Register and the Code of Federal Regulations is available on GPO Access at: www.gpoaccess.gov/nara/index.html.

Program Authority: 20 U.S.C. 1070c et seq.

Dated: May 6, 2010.
William J. Taggart,
Chief Operating Officer, Federal Student Aid.

[FR Doc. 2010-11354 Filed 5-12-10; 8:45 am]

BILLING CODE 4000-01-P